DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2024, through September 30, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the table, or

b. “[S]ustained, or had significantly aggravated, any illness, disability, injury, or condition set forth in the Vaccine Injury Table the first symptom or manifestation of the onset or significant aggravation of which did not occur within the time period set forth in the table but which was caused by a vaccine” referred to in the table.

In accordance with section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. Kelly Decker, Woodridge, Illinois, Court of Federal Claims No: 14-1526V

2. Joseph Savio, Richmond, Vermont, Court of Federal Claims No: 24-1361V

3. Erin Reidelbach, Rochester, Minnesota, Court of Federal Claims No: 24-1366V

4. Lucille Logan, Laguna Niguel, California, Court of Federal Claims No: 24-1369V

5. Jacqueline Smith, Monroeville, Pennsylvania, Court of Federal Claims No: 24-1370V

6. Bryan Oden, Akron, Ohio, Court of Federal Claims No: 24-1371V

7. Maria Reynoso, Los Angeles, California, Court of Federal Claims No: 24-1374V

8. Joanne O'Malley, Princeton, New Jersey, Court of Federal Claims No: 24-1381V

9. Jedidiah Taft, Westbrook, Maine, Court of Federal Claims No: 24-1385V

10. Brandon Sciaretta, Vancouver, Washington, Court of Federal Claims No: 24-1387V

11. Carol Stromgren, Thief River Falls, Minnesota, Court of Federal Claims No: 24-1388V

12. Sara Petty, Larchmont, New York, Court of Federal Claims No: 24-1390V

13. John Moore, Henrico, Virginia, Court of Federal Claims No: 24-1392V

14. John Christopher Lavrador on behalf of R.K.L., Edison, New Jersey, Court of Federal Claims No: 24-1396V

15. John Thomason, Howell, Michigan, Court of Federal Claims No: 24-1397V

16. Meghan Lakata, Catonsville, Maryland, Court of Federal Claims No: 24-1399V

17. Barbara Burris, Jamestown, New York, Court of Federal Claims No: 24-1400V

18. William D. Leggett, Robersonville, North Carolina, Court of Federal Claims No: 24-1402V

19. Trissa Basey, North Charleston, South Carolina, Court of Federal Claims No: 24-1406V

20. Adelheid Jones, Louisville, Kentucky, Court of Federal Claims No: 24-1408V

21. Waleed Shahid, Peekskill, New York, Court of Federal Claims No: 24-1412V

22. Ilona Vaytusyonok, Hollywood, Florida, Court of Federal Claims No: 24-1414V

23. Faith Elizabeth Neary, Catonsville, Maryland, Court of Federal Claims No: 24-1415V

24. Teresa Pizarro-Gordon, Richmond, Virginia, Court of Federal Claims No: 24-1416V

25. Amy Nichols, Boston, Massachusetts, Court of Federal Claims No: 24-1419V

26. Amy Scrivener, Burlington, Vermont, Court of Federal Claims No: 24-1420V

27. Jonathan Theriault, Van Nuys, California, Court of Federal Claims No: 24-1421V

28. Heather Donovan, Fitchburg, Wisconsin, Court of Federal Claims No: 24-1422V

29. Emily Monforte, Los Angeles, California, Court of Federal Claims No: 24-1423V

30. Sarah Walsh, Howell, Michigan, Court of Federal Claims No: 24-1427V

31. Jasmyn Serrano, Atlantis, Florida, Court of Federal Claims No: 24-1428V

32. Joyce Bohannon on behalf of Claude Bohannon, Jr., Deceased, Frankfort, Kentucky, Court of Federal Claims No: 24-1430V

33. Jeffery Till, Brookwood, Alabama, Court of Federal Claims No: 24-1434V

34. Stephanie Galindo, Kerrville, Texas, Court of Federal Claims No: 24-1435V

35. Mona Ballard, Sandy, Utah, Court of Federal Claims No: 24-1439V

36. Kristi Monette-Stevens, Bloomington, Minnesota, Court of Federal Claims No: 24-1442V

37. Eric J. Cash, Leesburg, Virginia, Court of Federal Claims No: 24-1444V

38. Hector Lopetegui, Miami, Florida, Court of Federal Claims No: 24-1445V

39. Karen Collins, Olympia Fields, Illinois, Court of Federal Claims No: 24-1446V

40. Susan Alban, Red Lion, Pennsylvania, Court of Federal Claims No: 24-1447V

41. Arevik Dikranian, Boston, Massachusetts, Court of Federal Claims No: 24-1449V

42. Debra Wanamaker, Oceanside, California, Court of Federal Claims No: 24-1450V

43. Heather Margonari, Pittsburgh, Pennsylvania, Court of Federal Claims No: 24-1451V

44. Noreen O'Connor, Camarillo, California, Court of Federal Claims No: 24-1452V

45. Ranya Khdier, Greensboro, North Carolina, Court of Federal Claims No: 24-1453V

46. Mary Bartok, North Olmsted, Ohio, Court of Federal Claims No: 24-1454V

47. Brandon S. Wright, Jr., Black River Falls, Wisconsin, Court of Federal Claims No: 24-1455V

48. Tyrone Lowe, Jr., New Lisbon, Wisconsin, Court of Federal Claims No: 24-1456V

49. Colleen Fagan, Dover, New Hampshire, Court of Federal Claims No: 24-1457V

50. Susan Administrator of the Estate of Kane on behalf of Robert Kane, Deceased, West Grove, Pennsylvania, Court of Federal Claims No: 24-1458V

51. Julia Obermier, Los Angeles, California, Court of Federal Claims No: 24-1462V

52. Christine Beyer, Lexington, South Carolina, Court of Federal Claims No: 24-1463V

53. Timothy Richert, Winter Park, Florida, Court of Federal Claims No: 24-1464V

54. Daniel Behar Calzado, Rochester, New York, Court of Federal Claims No: 24-1466V

55. Sharon Nelson, Muskego, Wisconsin, Court of Federal Claims No: 24-1468V

56. Justin Hines, Fort Meade, Maryland, Court of Federal Claims No: 24-1470V

57. Tyrone Martin, Oshkosh, Wisconsin, Court of Federal Claims No: 24-1471V

58. Jennifer Burandt on behalf of F.B., Chicago, Illinois, Court of Federal Claims No: 24-1472V

59. Lashonne Eubanks, Oakland, California, Court of Federal Claims No: 24-1474V

60. Daitina Brookins, Omaha, Nebraska, Court of Federal Claims No: 24-1475V

61. Sophia Haslup, Milwaukee, Wisconsin, Court of Federal Claims No: 24-1477V

62. Danna Christine Engel, Aurora, Colorado, Court of Federal Claims No: 24-1481V

63. Charisse Rizzo, East Rutherford, New Jersey, Court of Federal Claims No: 24-1482V

64. Tina Rice, Juneau, Alaska, Court of Federal Claims No: 24-1483V

65. Suzelle Blanchard, Houston, Texas, Court of Federal Claims No: 24-1486V

66. John A. Kowalczyk, Olathe, Kansas, Court of Federal Claims No: 24-1489V

67. Debra Smith, Roanoke Rapids, North Carolina, Court of Federal Claims No: 24-1490V

68. Gary Sohn, Delray Beach, Florida, Court of Federal Claims No: 24-1493V

69. Jessie Vance, Marion, Virginia, Court of Federal Claims No: 24-1495V

70. Katrina E. Canallatos, Clifton Park, New York, Court of Federal Claims No: 24-1497V

71. Ruby Green, Coral Springs, Florida, Court of Federal Claims No: 24-1498V

72. Mohammad Rahman, New York, New York, Court of Federal Claims No: 24-1500V

73. Kenneth White, Woodland Hills, California, Court of Federal Claims No: 24-1501V

74. Michael J. Hebbring, Jackson, Wisconsin, Court of Federal Claims No: 24-1502V

75. Vivian Price, Dallas, Texas, Court of Federal Claims No: 24-1503V

76. Mary Marron, Safety Harbor, Florida, Court of Federal Claims No: 24-1506V

77. Craig Stanton, Port St. Lucie, Florida, Court of Federal Claims No: 24-1507V

78. Michael Elliott, Boston, Massachusetts, Court of Federal Claims No: 24-1509V

79. Linda Exec of Estate Padova on behalf of Girolomo Padova, Deceased, Sheffield, England, International Address, Court of Federal Claims No: 24-1510V

80. Hyunkeun Joo, Baltimore, Maryland, Court of Federal Claims No: 24-1512V

81. Michael Grigsby, Chandler, Arizona, Court of Federal Claims No: 24-1515V

82. Lori Watson, Lawrence, Kansas, Court of Federal Claims No: 24-1516V

83. Debra Barone, Rochester, New York, Court of Federal Claims No: 24-1517V

84. Morris Ainsworth, Gulfport, Mississippi, Court of Federal Claims No: 24-1521V

85. Kelly Decker, Napa, California, Court of Federal Claims No: 24-1526V

86. Beverly Tonkin, Concord, New Hampshire, Court of Federal Claims No: 24-1527V

87. Rosa Fierro, Dresher, Pennsylvania, Court of Federal Claims No: 24-1528V

88. Stephanie Law, Virginia Beach, Virginia, Court of Federal Claims No: 24-1531V

89. Maria Demelo, Boston, Massachusetts, Court of Federal Claims No: 24-1533V

90. Rico Perez, Lafayette, Indiana, Court of Federal Claims No: 24-1534V

91. Shaun Rocknak, Cheyenne, Wyoming, Court of Federal Claims No: 24-1535V

92. Joel Pratt, Sarasota, Florida, Court of Federal Claims No: 24-1536V

[FR Doc. 2024-25360 Filed 10-30-24; 8:45 am]

BILLING CODE 4165-15-P